DEPARTMENT OF DEFENSE

Office of the Secretary

[Transmittal No. 20-65]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-65 with attached Policy Justification and Sensitivity of Technology.

Dated: January 8, 2021.
Aaron T. Siegel,
Alternate OSD Federal Register Liaison Officer, Department of Defense.

BILLING CODE 5001-06-P

BILLING CODE 5001-06-C

Transmittal No. 20-65

Notice of Proposed Issuance of Letter of Offer Pursuant to Section 36(b)(1) of the Arms Export Control Act, as Amended

(i) Prospective Purchaser: Government of Egypt

(ii) Total Estimated Value:

Major Defense Equipment * | $56.8 million
Other | $ 8.8 million
TOTAL | $65.6 million

(iii) Description and Quantity or Quantities of Articles or Services under Consideration for Purchase:

Major Defense Equipment (MDE): Twenty (20) AN/AAQ-33 Sniper Advanced Targeting Pods (ATPs)

Non-MDE: Also included are pylons; shipping containers; spare and repair/return parts; ground handling equipment; publications and technical documentation; software and software support; personnel training; U.S. Government and contractor engineering, technical, and logistical support services; and other related elements of program and logistical support.

(iv) Military Department: Air Force (EG-D-QFP)

(v) Prior Related Cases, if any: EG-D-SAB

(vi) Sales Commission, Fee, etc., Paid, Offered, or Agreed to be Paid: None

(vii) Sensitivity of Technology Contained in the Defense Article or Defense Services Proposed to be Sold: See Attached Annex

(viii) Date Report Delivered to Congress: December 28, 2020

* As defined in Section 47(6) of the Arms Export Control Act.

POLICY JUSTIFICATION

Egypt—Sniper Advanced Targeting Pods (ATPs)

The Government of Egypt has requested to buy twenty (20) AN/AAQ-33 Sniper ATPs. Also included are pylons; shipping containers; spare and repair/return parts; ground handling equipment; publications and technical documentation; software and software support; personnel training; U.S. Government and contractor engineering, technical, and logistical support services; and other related elements of program and logistical support. The estimated total program cost is $65.6 million.

This proposed sale will support the foreign policy and national security of the United States by helping to improve the security of a Major Non-NATO Ally country that continues to be an important strategic partner in the Middle East.

The proposed sale will improve Egypt's capability and effectiveness to meet current and future threats by providing additional precision targeting capability to conduct border security and counterterrorism operations. The added precision strike capability will better enable Egypt to conduct operations while minimizing collateral damage. Egypt will have no difficultly absorbing the additional equipment into its armed forces.

The proposed sale of this equipment and support will not alter the basic military balance in the region.

The principal contractor will be Lockheed Martin Aeronautics Company in Fort Worth, TX. There are no known offset agreements proposed in connection with this potential sale.

Implementation of this proposed sale will not require the assignment of any additional U.S. Government or contractor representatives to Egypt.

There will be no adverse impact on U.S. defense readiness as a result of this proposed sale.

Transmittal No. 20-65

Notice of Proposed Issuance of Letter of Offer Pursuant to Section 36(b)(1) of the Arms Export Control Act

Annex

Item No. vii

(vii) Sensitivity of Technology:

1. The AN/AAQ-33 SNIPER Pod is a multi-sensor, electro-optical targeting pod incorporating infrared, low-light television camera, laser range finder/target designator, and laser spot tracker. It is used to provide navigation and targeting for military aircraft in adverse weather and using precision-guided weapons such as laser-guided bombs. It also provides positive target identification, autonomous tracking, coordinate generation, and precise weapons guidance from extended standoff ranges. It offers much greater target resolution and imagery accuracy than previous systems.

2. The highest level of classification of information included in this potential sale is SECRET.

3. If a technologically advanced adversary were to obtain knowledge of the specific hardware and software elements, the information could be used to develop countermeasures that might reduce weapon system effectiveness or be used in the development of a system with similar or advanced capabilities.

4. A determination has been made that Government of Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2021-00630 Filed 1-13-21; 8:45 am]

BILLING CODE 5001-06-P